Proclamation 9292 of May 29, 2015

National Oceans Month, 2015

By the President of the United States of America

A Proclamation

This summer, millions of Americans will take in the beauty and natural splendor of our oceans, coasts, and Great Lakes. As destinations for recreation and tourism, these bodies of water rejuvenate our spirit and cultivate a love of our great outdoors. And no matter where you live or who you are, a healthy and thriving ocean is essential to all people all year. Our marine environments contribute to our food supply, bolster our economy, strengthen our national defense, and support important scientific research and innovation. They are some of humanity's greatest treasures and central to who we are as a people. During National Oceans Month, we celebrate these life-sustaining ecosystems, and we reaffirm our vital role as stewards of our planet.

Ensuring the long-term health, resilience, and productivity of our marine environments requires us to act to protect and preserve them in the face of a range of threats. Climate change is causing sea levels and ocean temperatures to rise, and these effects can harm coral reefs and force certain species to migrate. Carbon pollution is being absorbed by our oceans, causing them to acidify and changing entire ecosystems. And illegal fishing continues to threaten our global and economic security, as well as the sustainability of our world's fisheries.

My Administration is committed to doing all we can to combat these threats and leave our children and grandchildren clean and vibrant oceans. As part of my National Ocean Policy, we are creating a coordinated, science-based approach to managing our coasts and oceans, and we are focused on implementing specific, on-the-ground actions to improve our ocean economy and bolster ocean health. We continue to make meaningful progress toward ending overfishing, and the Federal Government is partnering with State, local, and tribal leaders to promote marine conservation. As President, I continue to use my authority to preserve our most precious ecosystems, including last year when I expanded the largest marine reserve in the world—ensuring more of our pristine tropical marine environments are off limits to commercial resource extraction.

We are heirs to a vast expanse of oceans and waterways that have sustained our ancestors for centuries. As caretakers of our planet, we share an obligation to protect these magnificent ecosystems for generations to come. This month, let us work to do our part and recommit to leading the way toward a safer, cleaner, more stable world.

NOW, THEREFORE, I, BARACK OBAMA, President of the United States of America, by virtue of the authority vested in me by the Constitution and the laws of the United States, do hereby proclaim June 2015 as National Oceans Month. I call upon Americans to take action to protect, conserve, and restore our oceans, coasts, and Great Lakes.

IN WITNESS WHEREOF, I have hereunto set my hand this twenty-ninth day of May, in the year of our Lord two thousand fifteen, and of the Independence of the United States of America the two hundred and thirty-ninth.

[FR Doc. 2015-13752

Filed 6-2-15; 11:15 am]

Billing code 3295-F5